DEPARTMENT OF ENERGY

Federal Energy Regulatory Commission

[Docket No. RP04-27-000]

Texas Eastern Transmission, LP; Notice of Filing

October 29, 2003.

Take notice that on October 21, 2003, Texas Eastern Transmission, LP (Texas Eastern) tendered for filing as part of its FERC Gas Tariff, Seventh Revised Volume No. 1, Second Revised Sheet No. 555, effective November 20, 2003.

Texas Eastern states that the purpose of this filing is to revise Section 4.1(J) of the General Terms and Conditions (GT&C) of its tariff to be consistent with the Commission's October 7, 2003, “Order on Rehearing and Compliance Filings” issued in Docket Nos. RP00-468, RP01-25, and RP03-175, et al., as well as GT&C §§ 4.2 and 30.6(c).

Texas Eastern states that copies of its filing have been mailed to all affected customers and interested state commissions.

Any person desiring to be heard or to protest said filing should file a motion to intervene or a protest with the Federal Energy Regulatory Commission, 888 First Street, NE., Washington, DC 20426, in accordance with § 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “eLibrary”. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the “eFiling” link.

Comment Date: November 5, 2003.

Magalie R. Salas,
Secretary.

[FR Doc. E3-00160 Filed 11-03-03;8:45 am]

BILLING CODE 6717-01-P